FEDERAL RETIREMENT THRIFT INVESTMENT BOARD

Sunshine Act; Notice of Meeting

Time and Date: 9 a.m. (Eastern Time).

Place: 4th Floor Conference Room, 1250 H Street, NW., Washington, DC 20005.

Status: Parts will be open to the public and parts closed to the public.

Matters to be Considered:

Parts Open to the Public

1. Approval of the minutes of the January 22, 2008 Board member meeting.

2. Thrift Savings Plan activity report by the Executive Director.

a. Monthly Participant Activity Report.

b. Monthly Investment Performance Report.

c. Legislative Report.

d. Review of FRTIB Office Space Use.

3. Department of Labor Audit Report.

4. TSP Systems Modernization Update.

5. Review of 2008 Board Meeting Calendar.

Parts Closed to the Public

6. Review of Confidential Vendor Financial Data.

7. Personnel.

Contact Person For More Information: Thomas J. Trabucco, Director, Office of External Affairs, (202) 942-1640.

Dated: February 11, 2008.
Thomas K. Emswiler,
Secretary to the Board, Federal Retirement Thrift Investment Board.

[FR Doc. 08-698 Filed 2-11-08; 3:50 pm]

BILLING CODE 6760-01-P